DEPARTMENT OF DEFENSE

Office of the Secretary

[Transmittal No. 19-14]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-14 with attached Policy Justification and Sensitivity of Technology.

Dated: June 11, 2019.
Aaron T. Siegel,
Alternate OSD Federal Register Liaison Officer, Department of Defense.

BILLING CODE 5001-06-P

BILLING CODE 5001-06-C

Transmittal No. 19-14

Notice of Proposed Issuance of Letter of Offer Pursuant to Section 36(b)(1) of the Arms Export Control Act, as amended

(i) Prospective Purchaser: Government of Qatar

(ii) Total Estimated Value:

Major Defense Equipment * | $1.90 billion
Other | $1.10 billion
TOTAL | $3.00 billion

(iii) Description and Quantity or Quantities of Articles or Services under Consideration for Purchase:

Major Defense Equipment (MDE):

Twenty-four (24) AH-64E Apache Attack Helicopters

Fifty-two (52) T700-GE-701D Engines (2 per aircraft, 4 spares)

Twenty-six (26) AN/ASQ-170 Modernized Target Acquisition and Designation Sight (MTADS) (1 per aircraft, 2 spares)

Twenty-six (26) AN/AAQ-11 Modernized Pilot Night Vision Sensors (1 per aircraft, 2 spares)

Eight (8) AN/APG-78 Fire Control Radars (FCR) with Radar Electronics Unit (LONGBOW component)

Eight (8) AN/APR-48 Modernized-Radar Frequency Interferometers (MRFI)

Twenty-nine (29) AN/AAR-57 Common Missile Warning System (CMWS) (1 per aircraft, 5 spares)

Fifty-eight (58) Embedded Global Positioning Systems with Inertial Navigation (EGI) (2 per aircraft, 10 spares)

Two thousand five hundred (2,500) AGM-114R Hellfire Missiles

Twenty-five (25) Hellfire Captive Air Training Missiles (CATM) (1 per aircraft, 1 spare)

Non-MDE: Also included are twenty-eight (28) M230 30mm automatic chain guns (1 per aircraft, 4 spares), AN/AVR-2B laser detecting sets, AN/APR-39 Radar Signal Detecting Sets, AN/AVS-6 Night Vision Goggles, M299 Hellfire missile launchers, 2.75 inch Hydra Rockets, 30mm cartridges, CCU-44 impulse cartridges, M206 and 211 countermeasure flares, M230 automatic guns and associated components, 2.75 inch rocket launcher tubes, AN/ARC-231 and AN/ARC-201D radios with associated components, AN/APX-123 transponders, image intensifiers, MUMT2i systems, AN/ARN-153 tactical airborne navigation systems, chaff, spare an repair parts, support equipment, training and training equipment, U.S. Government and contractor engineering, technical, and logistics support services, and other related elements of logistics and program support.

(iv) Military Department: Army (QA-B-WAG)

(v) Prior Related Cases, if any: QA-B-WYX, QA-B-OAM, QA-B-HAA

(vi) Sales Commission, Fee, etc., Paid, Offered, or Agreed to be Paid: None

(vii) Sensitivity of Technology Contained in the Defense Article or Defense Services Proposed to be Sold: See Attached Annex.

(viii) Date Report Delivered to Congress: May 9, 2019

* As defined in Section 47(6) of the Arms Export Control Act.

POLICY JUSTIFICATION

Qatar—AH-64E Apache Helicopters with Spare Parts and Related Equipment

The Government of Qatar has requested to buy twenty-four (24) AH-64E Apache Attack helicopters; fifty-two (52) T700-GE-701D engines (2 per aircraft, 4 spares); twenty-six (26) AN/ASQ-170 Modernized Target Acquisition and Designation Sight (MTADS) (1 per aircraft, 2 spares); twenty-six (26) AN/AAQ-11 Modernized Pilot Night Vision Sensors (1 per aircraft, 2 spare); eight (8) AN/APG-78 Fire Control Radars (FCR) with Radar Electronics Unit (LONGBOW component); eight (8) AN/APR-48 Modernized-Radar Frequency Interferometers (MRFI); twenty-nine (29) AN/AAR-57 Common Missile Warning System (CMWS) (1 per aircraft, 5 spares); fifty-eight (58) Embedded Global Positioning Systems with Inertial Navigation (EGI) (2 per aircraft, 10 spares); two thousand five hundred (2,500) AGM-114R Hellfire missiles; and twenty-five (25) Hellfire Captive Air Training Missiles (CATM) (1 per aircraft, 1 spare). Also included are twenty-eight (28) 30mm automatic chain guns (1 per aircraft, 4 spares), AN/AVR-2B laser detecting sets, AN/APR-39 Radar Signal Detecting Sets, AN/AVS-6 Night Vision Goggles, M299 Hellfire missile launchers, 2.75 inch Hydra Rockets, 30mm cartridges, CCU-44 impulse cartridges, M206 and 211 countermeasure flares, M230 automatic guns and associated components, 2.75 inch rocket launcher tubes, AN/ARC-231 and AN/ARC-201D radios with associated components, AN/APX-123 transponders, image intensifiers, MUMT2i systems, AN/ARN-153 tactical airborne navigation systems, chaff, spare an repair parts, support equipment, training and training equipment, U.S. Government and contractor engineering, technical, and logistics support services, and other related elements of logistics and program support. The estimated cost is $3.0 billion.

This proposed sale will support the foreign policy and national security of the United States by helping to improve the security of a friendly country that continues to be an important force for political and economic progress in the Middle East. Qatar is host to the U.S. Central Command forces and serves as a critical forward-deployed location in the region. The acquisition of these helicopters will allow for integration with U.S. forces for training exercises, which contributes to regional security and interoperability.

The proposed sale of the AH-64E Apache helicopters will supplement the Qatar Emiri Air Force's previous procurement of twenty-four (24) AH-64Es, which are capable of meeting its requirements for close air support, armed reconnaissance, and anti-tank warfare missions. The helicopters will provide a long-term defensive and offensive capability to the Qatar peninsula as well as enhance the protection of key oil and gas infrastructure and platforms. Qatar will have no difficulty absorbing these helicopters into its armed forces.

The proposed sale of this equipment and support will not alter the basic military balance in the region.

The prime contractors will be The Boeing Company, Mesa, Arizona; Lockheed Martin Corporation, Orlando, Florida; General Electric, Cincinnati, Ohio; Lockheed Martin Mission Systems and Sensors, Owego, New York; Longbow Limited Liability Corporation, Orlando, Florida; Thales Corporation, Paris, France; and Raytheon Corporation. There are no known offset agreements proposed in connection with this potential sale.

Implementation of this proposed sale will require the assignment of three (3) U.S. Government and five (5) contractor representatives to Qatar to support delivery of the Apache helicopters and provide support and equipment familiarization. In addition, Qatar has expressed an interest in expanding their planned Technical Assistance Fielding Team for additional in-country pilot and maintenance training to support this additional quantity of aircraft. To support the requirement a team of twenty (20) personnel (up to three military team members and 17 contractors) would be deployed to Qatar for approximately three years.

There will be no adverse impact on U.S. defense readiness as a result of this proposed sale.

Transmittal No. 19-14

Notice of Proposed Issuance of Letter of Offer Pursuant to Section 36(b)(1) of the Arms Export Control Act

Annex

Item No. vii

(vii) Sensitivity of Technology:

1. The AH-64E Apache Attack Helicopter weapon system contains communications and target identification equipment, navigation equipment, aircraft survivability equipment, displays, and sensors. The airframe itself does not contain sensitive technology; however, the equipment listed below will be either installed on the aircraft or included in the sale and carries technology transfer significance. The highest level of information that could be disclosed through the sale of the Apache in the configuration proposed for sale to Qatar is SECRET.

2. The AN/APG-78 Fire Control Radar (FCR) is an active, low probability of intercept, millimeter-wave radar, combined with the AN/APR-48, a passive Radar Frequency Interferometer (RFI) mounted on top of the helicopter mast. The FCR Targeting Mode detects, locates, classifies and prioritizes stationary or moving armored vehicles, tanks and mobile air defense systems as well as hovering and moving helicopters and fixed wing aircraft in normal flight. The highest level of information associated with the FCR and RFI is classified SECRET.

3. The AN/ASQ-170, Modernized Target Acquisition and Designation Sight (AN/AAQ-11), Modernized Pilot Night Vision Sensor (M-TADS/M-PNVS) is an enhanced version of its predecessor. It provides second generation day, night, and limited adverse weather target information, as well as night navigation capabilities. The M-PNVS provides second generation thermal imaging that permits safer nap-of-the-earth flight to, from, and within the battle area. The M-TADS provides the co-pilot gunner with improved search, deletion, recognition, and designation by means of Direct View Optics (DVO), television, and second generation Forward Looking Infrared (FLIR) sighting systems that may be used singularly or in combinations. M-TAD/M-PNVS hardware is UNCLASSIFIED. The technical manuals for authorized maintenance levels are UNCLASSIFIED. Specific information related to effective system performance parameters (e.g. range, accuracy, etc.) is classified CONFIDENTIAL.

4. The AN/AAR-57(V)7, Common Missile Warning System detects threat missiles in flight, evaluates potential false alarms, declares validity of threat, and selects appropriate Infrared Countermeasures (IRCM). It includes Electro Optical Missile Sensors, Electronic Control Unit (ECU), Sequencer, and the Improved Countermeasures Dispenser (ICMD) that consists of the Dispenser Assembly and the Payload Module. The ICMD dispenses decoy expendable objects (chaff, flares, etc.) to confuse threat radar devices. In-country repair capability will not be provided. Reverse engineering is not a major concern. The hardware is UNCLASSIFIED when the software is not loaded. The software is classified SECRET.

5. The AN/APR-39, Radar Signal Detecting Set is designed to operate on rotary wing and slow moving fixed wing aircraft to detect, categorize, and prioritize pulse radio frequency emitter illuminating the host platform to allow appropriate countermeasures. This is the 1553 data bus compatible configuration. In-country repair capability will not be provided. Hardware is UNCLASSIFIED when the software is not loaded. The software is CONFIDENTIAL. The system can be programmed with threat data provided by the purchasing country.

6. The AN/AVR-2B Laser Detecting Set is a passive laser warning system that receives processes, and displays threat information resulting from aircraft illumination by laser designators, rangefinders, and beamrider missile guidance systems. The AN/AVR-2B uses the existing AN/APR-39A/D interface for control status and crew warning. The threat information is processed by the AN/APR-39 RSDS, displayed on the aircraft multi-function display and announced by the AN/APR-39 RSDS via the aircraft Inter Communication System. In-country repair capability will not be provided. Reverse engineering is not a major concern. The hardware is classified CONFIDENTIAL; releasable technical manuals for operation and maintenance are classified SECRET.

7. Embedded Global Positioning System (GPS)/Inertial Navigation System (INS). GPS/INS utilize GPS satellite signals to correct or calibrate a solution from an INS. Inertial navigation systems usually can provide an accurate solution only for short duration. The INS accelerometers produce an unknown bias signal that appears as a genuine specific force. The EGI is Selective Available Anti-Spoofing Module (SAASM) based on navigation platform that combines an inertia sensor for position information and is UNCLASSIFIED. The GPS crypto variables need the highest GPS accuracy and are classified up to SECRET.

8. The AGM-114R Hellfire missile is precision strike, Semi-Active Laser (SAL) guided missile and is the principle air to ground weapon for the AH-64 Apache. The SAL Hellfire missile is guided by laser energy reflected off the target. It has three warhead variants: a dual warhead, shape-charge, high explosive anti-tank capability for armored targets, a blast fragmentation warhead for urban patrol boat and other soft targets and metal augmented charge warhead for urban structures. AGM-114R allows selection of warhead effects corresponding to a specific target type. Hardware for the AGM-114R is UNCLASSIFIED.

9. The highest level for release of the AGM-114R Hellfire III missile is Secret, based upon the software. The highest level of classified information that could be disclosed by a proposed sale or by testing of the end item is SECRET; the highest level that must be disclosed for production, maintenance, or training is CONFIDENTIAL. Reverse engineering could reveal confidential information. Vulnerability data, countermeasures, vulnerability/susceptibility analyses, and threat definitions are classified SECRET or CONFIDENTIAL.

10. The M211-flare is a countermeasure decoy in a 1” x 1” x 8” form factor in an aluminum case cartridge. It consists of case, piston, special material payload foils, and end cap. The special material is a pyrophoric metal (iron) foil that reacts with oxygen to generate infrared energy. The M211 decoys are dispersed from an aircraft to be used as a decoy in combination with the currently fielded M206 and M212 countermeasure flares to protect against advanced air-to-air and surface-to-air missile threats. The hardware is Unclassified and releasable technical manuals for operation and maintenance are classified SECRET.

11. The M36E9 Captive Air Training Missile (CATM) is a Hellfire training missile (Non-NATO) that consists of a functional guidance section coupled to an inert missile bus. The missile has an operational semi-active laser seeker that can search for and lock-on to laser designated targets for pilot training, but it does not have a warhead or propulsion section and cannot be launched.

12. If a technologically advanced adversary were to obtain knowledge of the specific hardware and software elements, the information could be used to develop countermeasures that might reduce weapon system effectiveness or be used in the development of a system with similar or advanced capabilities.

13. A determination has been made that Qatar can provide substantially the same degree of protection for the sensitive technology being released as the U.S. Government. This sale is necessary in furtherance of the U.S. foreign policy and national security objectives outlined in the Policy Justification.

14. All defense articles and services listed in this transmittal are authorized for release and export to the Government of Qatar.

[FR Doc. 2019-12665 Filed 6-14-19; 8:45 am]

BILLING CODE 5001-06-P